DEPARTMENT OF COMMERCE

National Telecommunications and Information Administration

47 CFR Part 301

Docket No. 050201021-5021-01

RIN 0660-AA15

Repeal of Mandatory Reimbursement Rules for Frequency Band or Geographic Relocation of Federal Spectrum-Dependent Systems

AGENCY: National Telecommunications and Information Administration, U.S. Department of Commerce

ACTION: Final Rule.

SUMMARY: The National Telecommunications and Information Administration (NTIA) is repealing its regulations governing reimbursement to federal entities by the private sector as a result of reallocation of frequency spectrum. The agency is taking this action in accordance with the Commercial Spectrum Enhancement Act which repealed the provision in the NTIA Organization Act under which the agency promulgated these regulations. The Commercial Spectrum Enhancement Act established a fund within the Department of Treasury through which money will be provided to federal agencies for the costs incurred in relocating their radio communications systems.

DATES: These rules become effective on February 9, 2005.

FOR FURTHER INFORMATION CONTACT: Milton Brown, Deputy Chief Counsel, National Telecommunications and Information Administration, U.S. Department of Commerce, 1401 Constitution Avenue, N.W., Room 4713, Washington, DC 20230; telephone: (202) 482-1816; facsimile: (202) 501-8013; or electronic mail: mbrown@ntia.doc.gov.

SUPPLEMENTARY INFORMATION:

I. Background

On June 17, 2002, the National Telecommunications and Information Administration (NTIA) issued a final rule entitled “Mandatory Reimbursement Rules for Frequency Band or Geographic Relocation of Federal Spectrum-Dependent Systems” (Mandatory Reimbursement Rules).¹ These regulations implemented a provision of Pub. L. No. 105-261, which required private sector licensees to reimburse federal agencies for the costs associated with relocating from or modifying the radio frequencies used by agencies' communications systems to accommodate the private sector licensees' use of the radio spectrum.² That law also directed NTIA to issue regulations to implement its requirements.

¹ See 67 Fed. Reg. 41,182 (2002) (The rules were codified at 47 C.F.R. Part 301.)

² See Pub.L.No. 105-261, 112 Stat. 1920, 2132 (1998), amending section 113(g) of the NTIA Organization Act (codified at 47 U.S.C. § 923(g)).

II. Repeal of the Mandatory Reimbursement Rules

On December 23, 2004, the President signed into law Public Law No. 108-494, the Commercial Spectrum Enhancement Act.³ Among other purposes, this Act struck the provision in the NTIA Organization Act requiring private sector licensees to reimburse federal agencies' relocation costs, and in its stead, created a new fund within the Department of Treasury through which federal agencies would be reimbursed for such costs and directed NTIA to take certain actions to implement the new reimbursement and relocation plan. Because the new law strikes the authorization underpinning the Mandatory Reimbursement Rules and eliminates any obligation on private sector licensees with respect to reimbursement, NTIA is repealing its regulations.

³ Pub.L.No. 108-494, 118 Stat. 3896, 3992 (2004).

To the extent that NTIA must take action to implement the new reimbursement and relocation plan with respect to federal agencies, it will do so in consultation with the Interdepartment Radio Advisory Committee (IRAC),⁴ the Federal Communications Commission, and the Office of Management and Budget. Any procedures developed during that process will appear in the NTIA Manual of Regulations and Procedures for Federal Radio Frequency Management, which provides the rules governing federal agencies' use of the radio spectrum.⁵

⁴ The IRAC is an advisory commmittee comprised of the federal agencies using the radio spectrum. The IRAC provides spectrum management advice and support to the Assistant Secretary for Communications and Information and NTIA Administrator.

⁵ The NTIA Manual is available on NTIA's website at http://www.ntia.doc.gov/osmhome/redbook/redbook.html.

III. Other Information

The Commercial Spectrum Enhancement Act repeals the statutory authorization for the Mandatory Reimbursement Rules thereby eliminating NTIA's authority to implement these rules. Thus, NTIA must repeal these rules. Under these circumstances, providing prior notice and an opportunity for public comment on whether to repeal these rules would serve no useful purpose. As a result, under authority at 5 U.S.C. § 553(b)(B), NTIA finds good cause to waive such procedures. Moreover, the rules have not been utilized since their promulgation, and thus, no federal agency's or private sector entity's interest will be adversely affected by their repeal. Further, and for the same reason, NTIA finds good cause pursuant to 553(d)(3) to waive the requirement of a 30-day delay in effect for this rule. Thus, this rule is effective February 9, 2005.

Executive Order 12866

The repeal of the Mandatory Reimbursement Rules is not a significant regulatory action as defined by Executive Order 12866.

Executive Order 13312

The repeal of the Mandatory Reimbursement Rules do not contain policies with federalism implications sufficient to warrant preparation of a federalism assessment under Executive Order 12612.

Regulatory Flexibility Act

As prior notice and an opportunity for public comment are not required under 5 U.S.C. § 553 or any other law, the analytical requirements of the Regulatory Flexibility Act are inapplicable. Thus, no regulatory flexibility analysis is required and none has been prepared.

Paperwork Reduction Act

This action contains no collections of information. Therefore, clearance by the Office of Management and Budget under the Paperwork Reduction Act of 1995 is not required.

Lists of Subjects in 47 CFR Part 301

Classified information, Communications common carriers, Communications equipment, Defense communications, Federal buildings and facilities, Radio, Satellites, Telecommunications.

PART 301—[REMOVED AND RESERVED]

For the reasons stated above, 47 CFR Chapter III is amended by removing and reserving Part 301 pursuant to authority contained in Pub. L. No. 108-494.

Dated: February 4, 2005.
Michael D. Gallagher,
Assistant Secretary for Communications and Information Administration.

[FR Doc. 05-2514 Filed 2-8-05; 8:45 am]

BILLING CODE 3510-60-S